DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following metropolitan areas: Orlando, Florida; Miami, Florida; Salt Lake City, Utah; San Francisco, California; and Binghamton, New York. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before April 30, 2008.

FOR FURTHER INFORMATION CONTACT: Joseph Ossi, Environmental Protection Specialist, Office of Planning and Environment, 202-366-1613, or Christopher Van Wyk, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (RODs) or Findings of No Significant Impact (FONSIs)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: Central Florida Commuter Rail; Orlando, Florida. Project sponsor: Florida Department of Transportation. Project description: The Central Florida Commuter Rail project extends 61 miles along the A-line rail corridor of CSX Transportation from the Deland Amtrak station in Volusia County, through downtown Orlando, to Poinciana Industrial Park in Osceola County. Bi-directional commuter rail service would be provided at a total of 16 stations using diesel multiple units (DMUs) in two-or three-car consists operating on 15 minute headways in the peak hours and 60 minute headways during the midday, off-peak hours. Other infrastructure improvements of the project include: A new signalization system, 42 miles of new second track, 16 platform stations of which 11 stations have parking facilities with a total of 4300 spaces, a DMU vehicle storage and maintenance facility, and two end-of-line layover facilities. The project would be built in phases. Final agency actions: FONSI signed on April 27, 2007; Section 106 Finding of No Adverse Effect; project-level Air Quality Conformity determination; finding of no significant encroachment on floodplains in accordance with Executive Order 11988; finding of no practicable alternative to new construction in wetlands in accordance with Executive Order 11990; and consultation with the U.S. Department of the Interior (DOI) under Section 7 of the Endangered Species Act, resulting in DOI's issuance of a Biological Opinion. Supporting documentation: Central Florida Commuter Rail Transit North/South Corridor Project: Environmental Assessment issued in December 2006.

2. Project name and location: Miami North Corridor Metrorail Extension; Miami, Florida. Project sponsor: Miami-Dade County Transit (MDT). Project description: The project consists of the design and construction of a 9.5-mile heavy rail transit extension of the existing Miami Metrorail system from NW 76th Street to NW 215th Street on or adjacent to NW 27th Avenue. The project is a dual-track, fixed guideway that would be exclusively elevated in the right of way of NW 27th Avenue or in an exclusive MDT-owned right of way adjacent to NW 27th Avenue. The project includes seven new stations of which six stations are configured as center-platform and one as side-platform. Final agency actions: ROD signed on April 26, 2007; Section 106 Finding of No Adverse Effect; project-level Air Quality Conformity determination; finding of no disproportionately high and adverse human health or environmental effects on minority and low-income populations in accordance with Executive Order 12898; and finding of no significant encroachment on floodplains in accordance with Executive Order 11988. Supporting documentation: Final Environmental Impact Statement: Miami North Corridor issued on March 9, 2007.

3. Project name and location: Mid-Jordan Transit Corridor Project; Salt Lake City, Utah. Project sponsor: Utah Transit Authority (UTA). Project description: The project consists of a 10.6-mile light rail transit (LRT) extension branching from the existing TRAX line between Sandy and Salt Lake City at 6400 South in Murray in Salt Lake County and proceeding to the new Daybreak Development in South Jordan via the cities of Murray, Midvale, West Jordan and South Jordan. Two new tracks will be constructed along the existing Union Pacific Railroad (UPRR) Bingham Branch corridor from the existing 6400 South/Fashion Place West Station to a new terminal station in Daybreak at approximately 11400 South. The project includes station improvements at the existing 6400 South/Fashion Place West station and nine new stations at Bingham Junction (Midvale Slag Site), Gardner Village, Redwood (West Jordan City Hall), 2700 West, Bangerter (South Station Development), 4800 West, 5600 West, Daybreak North, and Daybreak South. These stations will include feeder bus facilities and 4,200 park-and-ride spaces to be constructed in phases over time by the year 2030. The LRT will use both of the new tracks during transit operating hours, typically from 5 AM to midnight. Freight trains will operate on the same tracks during non-LRT hours. Final agency actions: ROD signed on September 24, 2007; Section 4(f) finding; Section 106 Memorandum of Agreement; project-level air quality conformity determination; finding of no practicable alternative to significant encroachment into floodplains in accordance with Executive Order 11988. Supporting documentation: Final Environmental Impact Statement: Mid-Jordan Transit Corridor Project issued on July 27, 2007.

4. Project name and location: Ed Roberts Campus Project; Berkeley, California. Project sponsor: San Francisco Bay Area Rapid Transit District (BART) and the Ed Roberts Campus (ERC). Project description: BART and ERC will construct a transit-oriented development on the eastern parking lot of the BART Ashby station in Berkeley. The 3.6-acre parking lot occupies the southern three quarters of the block bounded by Essex Street on the north, Woolsey Street on the south, Adeline on the west, and Tremont on the east. The project includes subdividing the site to construct an 86,000-square-foot, two-story office building, with its principal pedestrian entry at street level on Adeline Street and a separate parking lot for the office building. The office building will occupy the western 1.5 acres of the existing parking lot. The 250 parking spaces for BART customers in the existing parking lot will be replaced by a parking structure with 187 parking spaces. The Ed Roberts Campus incorporates universal design standards that are intended to provide equal access to all people, regardless of their level of ability. The office building will provide tenant spaces for nine disability organizations, a computer lab, a child care center, a fitness center and a caf. Final agency actions: FONSI signed on October 1, 2007 and Section 106 Finding of No Adverse Effect. Supporting documentation: Environmental Assessment developed in accordance with the NEPA regulation of the U.S. Department of Housing and Urban Development, issued in May 2006 and adopted by FTA in October 2007.

5. Project name and location: Binghamton Intermodal Transit Terminal; Binghamton, New York. Project sponsor: Broome County, New York. Project description: The project consists of the following elements: An 18,000-square-foot building to provide a weather-protected passenger waiting area, ticketing, restrooms, telephones, and other amenities; short-term parking for up to 50 vehicles; 12 bus bays for Broome County Transit buses and 14 bus bays for intercity buses; approximately 1,800 square feet of green space; bicycle storage; and a taxi loading area. The project involves the acquisition of 12 parcels of land, the complete demolition of three existing buildings and the partial demolition of a fourth historic building, the Greyhound Terminal building, to make room for the construction of the new facility. The exterior wall and historic fade on the Chenango Street (east) side of the existing Greyhound Terminal will be retained, rehabilitated and incorporated into the design of the new facility. Final agency actions: FONSI signed on June 27, 2007; Section 106 Programmatic Agreement; and finding of no disproportionately high and adverse human health or environmental effects on minority and low-income populations, in accordance with Executive Order 12898. Supporting documentation: Environmental Assessment issued in February 2007.

Issued on: October 26, 2007.
Susan Borinsky,
Associate Administrator for Planning and Environment, Washington, DC.

[FR Doc. E7-21564 Filed 11-1-07; 8:45 am]

BILLING CODE 4910-57-P